ENVIRONMENTAL PROTECTION AGENCY

40 CFR Part 52

[EPA-R09-OAR-2007-1074, FRL-8537-9]

Partial Removal of Direct Final Rule Revising the California State Implementation Plan, Monterey Bay Unified Air Pollution Control District and San Joaquin Valley Air Pollution Control District

AGENCY: Environmental Protection Agency (EPA).

ACTION: Partial removal of direct final rule.

SUMMARY: On January 2, 2008 (73 FR 48), EPA published a direct final approval of revisions to the California State Implementation Plan (SIP). These revisions concerned local rules that address circumvention, reduction of animal matter, and volatile organic compound (VOC) emissions from gasoline bulk storage tanks, gasoline filling stations, petroleum refinery equipment, and petroleum solvent dry cleaning. The direct final action was published without prior proposal because EPA anticipated no adverse comment. The direct final rule stated that if adverse comments were received by February 1, 2008, EPA would publish a timely removal in the Federal Register. EPA received a timely adverse comment. Consequently, with this revision we are removing the direct final approval of SJVAPCD Rules 4104, 4402, 4404, 4453, 4454, 4625, 4641, and 4672. EPA will either address the comments in a subsequent final action based on the parallel proposal also published on January 2, 2008 (73 FR 48) or repropose an alternative action. As stated in the parallel proposal, EPA will not institute a second comment period on a subsequent final action. The other rules, MBUAPCD Rules 415, 418, and 1002, approved in the January 2, 2008 direct final action, are not affected by this removal and are incorporated into the SIP as of the original effective date of March 3, 2008.

DATES: The addition of 40 CFR 52.220(c)(351)(i)(C) published at 73 FR 48 on (January 2, 2008) is removed effective March 13, 2008.

ADDRESSES: EPA has established docket number EPA-R09-OAR-2007-1074 for this action. The index to the docket is available electronically at http://www.regulations.gov and in hard copy at EPA Region IX, 75 Hawthorne Street, San Francisco, CA. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Alfred Petersen, Rules Office (AIR-4), U.S. Environmental Protection Agency, Region IX, (415) 947-4118, petersen.alfred@epa.gov.

List of Subjects in 40 CFR Part 52

Environmental protection, Air pollution control, Incorporation by reference, Intergovernmental relations, Ozone, Reporting and recordkeeping requirements, Volatile organic compounds.

Dated: February 13, 2008.
Wayne Nastri,
Regional Administrator, Region IX.

Part 52, chapter 1, title 40 of the Code of Federal Regulations is amended as follows:

PART 52—[AMENDED]

1. The authority citation for part 52 continues to read as follows:

Authority: 42 U.S.C. 7401 et seq.

Subpart F—California

§ 52.220 [Amended]

2. Section 52.220 is amended by removing paragraph (c)(351)(i)(C).

[FR Doc. E8-4829 Filed 3-12-08; 8:45 am]

BILLING CODE 6560-50-P